DEPARTMENT OF COMMERCE

International Trade Administration

A-122-847

C-122-848

Antidumping Duty Investigation and Countervailing Duty Investigation of Hard Red Spring Wheat from Canada: Notice of Panel Decision, Revocation of Countervailing and Antidumping Duty Orders and Termination of Suspension of Liquidation

AGENCY: Import Administration, International Trade Administration, Department of Commerce.

SUMMARY: On December 12, 2005, the binational panel convened under the North American Free-Trade Agreement (“NAFTA”) issued a decision affirming the International Trade Commission's determination issued pursuant to remand that the domestic industry is neither materially injured by reason of the subject imports nor threatened with such injury. There was no Extraordinary Challenge filed. Therefore, we are revoking the countervailing duty order and antidumping duty order on hard red spring wheat from Canada effective January 2, 2006, and ordering the termination of suspension of liquidation.

EFFECTIVE DATE: February 16, 2006.

FOR FURTHER INFORMATION CONTACT: Brandon Farlander or Audrey Twyman, AD/CVD Operations, Office 1, Import Administration, U.S. Department of Commerce, 14th Street and Constitution Avenue, NW, Washington, DC 20230; telephone (202) 482-0182 and (202) 482-3534, respectively.

SUPPLEMENTARY INFORMATION:

Background

On October 16, 2003, the International Trade Commission (“ITC”) determined that an industry in the United States is materially injured by reason of imports of hard red spring wheat from Canada found to be subsidized and sold in the United States at less than fair value. Hard Red Spring Wheat from Canada, Inv. Nos. 701-TA-430B and 731-TA-1019B (Final), USITC Pub. 3639 (October 2003) (“Final Injury Determination”); 68 FR 60707 (October 23, 2003). Respondent parties subsequently challenged the ITC's Final Injury Determination before a binational panel, pursuant to Article 1904 of the NAFTA. The parties briefed and argued the case before the panel, and on June 7, 2005, the panel issued its decision, remanding in full the ITC's determination. Hard Red Spring Wheat from Canada, USA-CDA- 2003-1904-06, Decision of the Panel (June 7, 2005).

On October 5, 2005, the ITC determined on remand that the domestic industry is neither materially injured by reason of the subject imports nor threatened with material injury. By decision issued on December 12, 2005, the panel affirmed in full the ITC's determination on remand. Hard Red Spring Wheat from Canada, USA-CDA-2003-1904-06, Decision of the Panel on the Remand Determination of the U.S. International Trade Commission (December 12, 2005). On December 12, 2005, the panel directed the NAFTA Secretariat to issue a Notice of Final Panel Action on the 11th day following the December 12, 2005, panel decision. Decision of the Panel, 70 FR 75792 (December 21, 2005). The Notice of Final Panel Action was issued on December 23, 2005. On January 31, 2006, the Department published notice of the adverse decision of the NAFTA panel, 71 FR 5050 (January 31, 2006). The effective date of the notice of the adverse decision was January 2, 2006, 10 days after issuance of the Notice of Final Panel Action. On January 30, 2006, the NAFTA Secretariat published the North American Free-Trade Agreement, Article 1904 NAFTA Panel Reviews; Completion of Panel Review, 71 FR 4896 (January 30, 2006).

Therefore, we are revoking the countervailing duty order and antidumping duty order on hard red spring wheat from Canada, effective January 2, 2006.

Termination of Suspension of Liquidation

The U.S. Department of Commerce will instruct U.S. Customs and Border Protection to terminate the suspension of liquidation of hard red spring wheat from Canada, effective January 2, 2006; to cease collection of cash deposits on hard red spring wheat from Canada; and to proceed with liquidation of the subject merchandise which entered the United States on or after January 2, 2006, without regard to countervailing duties and antidumping duties.

This revocation does not affect the liquidation of entries made prior to January 2, 2006. Any entries of subject merchandise entered before January 2, 2006, are subject to administrative review. If no review is requested we will liquidate at the rate in effect at the time of entry pursuant to 19 CFR 351.212(c).

Dated: February 10, 2006.
David M. Spooner,
Assistant Secretary for Import Administration.

[FR Doc. E6-2282 Filed 2-15-06; 8:45 am]

BILLING CODE 3510-DS-S